DEPARTMENT OF JUSTICE

Antitrust Division

Notice Pursuant to the National Cooperative Research and Production Act of 1993—IMS Global Learning Consortium, Inc.

Notice is hereby given that, on October 30, 2003, pursuant to section 6(a) of the National Cooperative Research and Production Act of 1993, 15 U.S.C. 4301 et seq. (“the Act”), IMS Global Learning Consortium, Inc. has filed written notifications simultaneously with the Attorney General and the Federal Trade Commission disclosing changes in its membership status. The notifications were filed for the purpose of extending the Act's provisions limiting the recover of antitrust plaintiffs to actual damages under specified circumstances. Specifically, Sentient Consulting Limited, Liverpool, United Kingdom; and University of Ulster, Newtownabbey Co., Antrim, United Kingdom have been added as parties to this venture.

No other changes have been made in either the membership or planned activity of the group research project. Membership in this group research project remains open, and IMS Global Learning Consortium, Inc. intends to file additional written notification disclosing all changes in membership.

On April 7, 2000, IMS Global Learning Consortium, Inc. filed its original notification pursuant to section 6(a) of the Act. The Department of Justice published a notice in the Federal Register pursuant to section 6(b) of the Act on September 13, 2000 (65 FR 55283).

The last notification was filed with the Department on August 8, 2003. A notice was published in the Federal Register pursuant to section 6(b) of the Act on August 29, 2003 (68 FR 52055).

Dorothy B. Fountain,
Deputy Director of Operations, Antitrust Division.

[FR Doc. 03-29833 Filed 11-28-03; 8:45 am]

BILLING CODE 4410-11-M